DEPARTMENT OF THE INTERIOR

Bureau of Land Management

[WO-260-09-1060-00-24 1A]

Correction to Notice of Call for Nominations for the Wild Horse and Burro Advisory Board

AGENCY: Bureau of Land Management, Interior.

ACTION: Corrections to Notice of Call for Nominations for the Wild Horse and Burro Advisory Board. This notice was previously published in the Federal Register: Vol. 70, No. 193/Tuesday, October 6, 2005.

SUMMARY: The Federal Register Notice has an incorrect date for nominations to be submitted to the National Wild Horse and Burro Advisory Board. The corrected notice extends the date to November 30, 2005. The nominations should be submitted to the National Wild Horse and Burro Program, Bureau of Land Management, Department of Interior, P.O. Box 12000, Reno, Nevada 89520-0006, Attn: Ramona DeLorme: fax (775) 861-6711.

FOR FURTHER INFORMATION CONTACT: Mr. Jeff Rawson, Group Manager, Wild Horse and Burro Group, (202) 452-0379. Individuals who use a telecommunications device for the deaf (TDD) may reach Ms. DeLorme at any time by calling the Federal Information Relay Service at 1 (800) 877-8339.

Dated: October 25, 2005.
Thomas H. Dyer,
Deputy Assistant Director, Renewable Resources and Planning.

[FR Doc. 05-22187 Filed 11-8-05; 8:45 am]

BILLING CODE 4310-84-P